DEPARTMENT OF HEALTH AND HUMAN SERVICES

National Institutes of Health

Center for Scientific Review; Amended Notice of Meeting

Notice is hereby given of a change in the meeting of the Respiratory Integrative Biology and Translational Research Study Section, October 24, 2013, 08:00 a.m. to October 25, 2013, 05:00 p.m., Courtyard Chicago Downtown/River North, 30 East Hubbard, Garden Avenue, Chicago, IL 60611, which was published in the Federal Register on October 01, 2013, 78 FR 60296.

The meeting will start on December 10, 2013 at 9:00 a.m. and end on December 12, 2013 at 5:00 p.m. The meeting will be held at the National Institutes of Health, 6701 Rockledge Drive, Bethesda, MD 20892. The meeting is closed to the public.

Dated: October 29, 2013.
Melanie J. Gray,
Program Analyst, Office of Federal Advisory Committee Policy.

[FR Doc. 2013-26206 Filed 11-1-13; 8:45 am]

BILLING CODE 4140-01-P